UNITED STATES INTERNATIONAL TRADE COMMISSION

[USITC SE-01-036]

Sunshine Act Meeting

AGENCY HOLDING THE MEETING: United States International Trade Commission.

TIME AND DATE: October 25, 2001 at 11:00 a.m.

PLACE: Room 101, 500 E Street, S.W., Washington, DC 20436, Telephone: (202) 205-2000.

STATUS: Open to the public.

MATTERS TO BE CONSIDERED:

1. Agenda for future meeting: none.

2. Minutes.

3. Ratification List.

4. Inv. Nos. 731-TA-919-920 (Final)(Certain Welded Large Diameter Line Pipe from Japan and Mexico)—briefing and vote. (The Commission is currently scheduled to transmit its determination to the Secretary of Commerce on October 25, 2001; Commissioners' opinions are currently scheduled to be transmitted to the Secretary of Commerce on November 2, 2001.)

5. Outstanding action jackets: none.

In accordance with Commission policy, subject matter listed above, not disposed of at the scheduled meeting, may be carried over to the agenda of the following meeting.

Issued: October 17, 2001.
By order of the Commission.
Donna R. Koehnke,
Secretary.

[FR Doc. 01-26655 Filed 10-18-01; 11:06 am]

BILLING CODE 7020-02-M